DEPARTMENT OF COMMERCE

National Oceanic and Atmospheric Administration

[I.D. 050802E]

North Pacific Fishery Management Council; Council Chairmen’s Meeting

AGENCY: National Marine Fisheries Service (NMFS), National Oceanic and Atmospheric Administration (NOAA), Commerce.

ACTION: Annual meeting of Regional Fishery Management Council and NMFS representatives.

SUMMARY: Representatives of the eight Regional Fishery Management Councils will meet with representatives of NMFS in Sitka, AK.

DATES: The meetings will be held on Tuesday, May 28, 2002 through Friday, May 31, 2002.

ADDRESSES: The meetings will be held at the Harrigan Centennial Hall, 330 Harbor Drive, Sitka, AK.

Council address: North Pacific Fishery Management Council, 605 W. 4th Ave., Suite 306, Anchorage, AK 99501-2252.

FOR FURTHER INFORMATION CONTACT: Gail Bendixen, NPFMC, Phone: 907-271-2809.

SUPPLEMENTARY INFORMATION: On Tuesday, May 28, Council representatives and NMFS representatives will meet separately to prepare for the joint meetings Wednesday and Thursday, May 29-30. Council representatives will meet again on Friday morning, May 31, to finalize any recommendations resulting from the joint meetings.

The tentative agenda includes the following subjects for discussion:

1. Reauthorization of the Magnuson-Stevens Fishery Conservation and Management Act and other legislative initiatives.

2. Procedure and schedules for approval of Council statements of operating policies and procedures.

3. Discussion of Marine Protected Area initiative.

4. The ability of NMFS to meet mission requirements.

5. Discussion of education and public outreach campaign.

6. International trade negotiations, capacity reduction assessments, and general litigation influences.

7. Reports:

(a) NMFS reports on cooperative research funds and electronic logbook program.

(b) U.S. Coast Guard report on fisheries enforcement and rescue activities.

(c) Update on the 2002 annual Status of Stocks report to Congress and discussion of process and format for future reports.

(d) Status of the Coral Reef Task Force and funding issues.

(e) Status report on electronic rulemaking initiative.

(f) Status report on Essential Fish Habitat lawsuit and development of environmental impact statements.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Gail Bendixen at 907-271-2809 at least 7 working days prior to the meeting date.

Dated: May 8, 2002.
Richard W. Surdi,
Acting Director, Office of Sustainable Fisheries, National Marine Fisheries Service.

[FR Doc. 02-12031 Filed 5-13-02; 8:45 am]

BILLING CODE 3510-22-S